DEPARTMENT OF ENERGY

Federal Energy Regulatory Commission

[Docket No. EC04-44-000, et al.]

Victory Garden Power Partners I, LLC, et al.; Electric Rate and Corporate Filings

January 5, 2004.

The following filings have been made with the Commission. The filings are listed in ascending order within each docket classification.

1. Victory Garden Power Partners I, LLC, ZWHC, LLC, and (not consolidated) Caithness VG Wind, LLC, Caithness 251 Wind, LLC

[Docket Nos. EC04-44-000, ER03-527-001, and ER03-522-001]

Take notice that on December 23, 2003, ZWHC, LLC (ZWHC) and Victory Garden Power Partners I, LLC (VGI) (collectively, the Sellers) and Caithness VG Wind, LLC (Caithness VG) and Caithness 251 Wind, LLC (Caithness 251) (collectively, the Purchasers) filed with the Federal Energy Regulatory Commission an application pursuant to section 203 of the Federal Power Act for authorization of the sale to Purchasers (both wholly-owned subsidiaries of Caithness Energy, L.L.C., of generation assets owned by ZWHC and VGI and Notification of Change in Status.

Comment Date: January 16, 2004.

2. Citizens Communications Company, Great Bay Hydro Corporation, Vermont Electric Cooperative, Inc.

[ Docket No. EC04-45-000]

Take notice that on December 24, 2003, Citizens Communications Company (Citizens), Great Bay Hydro Corporation (Great Bay), and Vermont Electric Cooperative, Inc. (VEC) (together, Applicants), filed with the Federal Energy Regulatory Commission a joint application pursuant to section 203 of the Federal Power Act for authorization to dispose of and acquire jurisdictional facilities whereby Citizens will (1) Transfer certain jurisdictional transmission facilities to Great Bay, or in the alternative, (2) transfer certain jurisdictional transmission facilities to VEC, which will subsequently transfer these facilities to Great Bay as soon as practicable. Citizens also proposes to transfer certain related assets.

The Applicants state that the above-described proposed transfer of jurisdictional transmission facilities is associated with Citizens' proposed transfer of certain generating facilities in the State of Vermont. Specifically, the application states that Citizens' proposes to transfer its hydraulic generating facilities and dams located in the State of Vermont (the Newport Generating Facility Units 1, 2, 3 and 11, the Troy Generating Facility, and the West Charleston Generating Facility) and diesel generators located at the Newport Generating Facility Units 1, 2 and 3. Applicants state that the total generating capacity of the facilities Citizens proposes to transfer is approximately 12 MW.

Comment Date: January 16, 2004.

3. Citizens Communications Company, Vermont Electric Cooperative, Inc.

[Docket No. EC04-46-000]

Take notice that on December 24, 2003, Citizens Communications Company (Citizens) and Vermont Electric Cooperative, Inc. (VEC) filed with the Federal Energy Regulatory Commission a joint application pursuant to section 203 of the Federal Power Act for authorization of a disposition of jurisdictional facilities whereby Citizens will sell certain transmission facilities to VEC.

Comment Date: January 16, 2004.

4. Crete Energy Venture, LLC, Entergy Asset Management, Inc., and ArcLight Capital Holdings, LLC

[Docket No. EC04-47-000]

Take notice that on December 24, 2003, Crete Energy Venture, LLC (Crete), Entergy Asset Management, Inc. (EAM), and ArcLight Capital Holdings, LLC, (together, Applicants) tendered for filing a joint application for authorization under section 203 of the Federal Power Act for EAM to sell its membership interests in Crete to a wholly-owned subsidiary of ArcLight Energy Partners Fund I, L.P. and/or ArcLight Energy Partners Fund II, L.P.

Comment Date: January 16, 2004.

5. MNS Wind Company LLC

[Docket No. ER04-330-000]

Take notice that on December 24, 2003, MNS Wind Company LLC filed a Notice of Cancellation of its FERC Electric Rate Schedule No. 1. MNS Wind requests that this Notice of Cancellation be effective as of December 24, 2003.

Comment Date: January 14, 2004.

6. Southern California Edison Company

[Docket No. ER04-334-000]

Take notice that on December 24, 2003, Southern California Edison Company (SCE) tendered for filing revisions to its Transmission Owner Tariff (TO Tariff), FERC Electric Tariff, Second Revised Volume No. 6, Appendices I, II and III, to reflect the change in transmission rates resulting from the annual update of the Transmission Revenue Balancing Account Adjustment.

SCE states that copies of the filing were served upon the Public Utilities Commission of the State of California, the California Independent System Operator, the Cities of Azusa, Banning, Colton, Riverside, California, the Department of Water and Power of the City of Los Angeles, California and all Scheduling Coordinators certified by the California Independent System Operator.

Comment Date: January 14, 2004.

7. New England Power Pool

[Docket No. ER04-335-000]

Take notice that on December 24, 2003, the New England Power Pool (NEPOOL) Participants Committee filed revisions to NEPOOL Market Rule 1 to govern the issuance and administration of Gap RFPs in New England. A March 1, 2004, effective date is requested.

The NEPOOL Participants Committee states that copies of these materials were sent to the NEPOOL Participants and the New England State governors and regulatory commissions.

Comment Date: January 14, 2004.

8. Liberty Generating Company, LLC, Badger Generating Company, LLC, and Okeechobee Generating Company

[ Docket No. ER04-336-000 ]

Take notice that on December 24, 2003, Liberty Generating Company, LLC, Badger Generating Company, LLC and Okeechobee Generating Company tendered for filing Notice of Cancellation of their respective market-based rate tariffs.

Comment Date: January 14, 2004.

9. Pacific Gas and Electric Company

[Docket No. ER04-337-000]

Take notice that on December 24, 2003, Pacific Gas and Electric Company (PG&E) tendered for filing changes in rates included in its Transmission Owner Tariff (TO Tariff) for the Transmission Revenue Balancing Account Adjustment (TRBAA) rate, the Reliability Services (RS) rates and the Transmission Access Charge Balancing Account Adjustment (TACBAA). PG&E requests a January 1, 2004, effective for these changes in rates with the exception of the TACBAA rate.

PG&E states that copies of the filing have been served on the California Independent System Operator (ISO), Scheduling Coordinators registered with the ISO, Southern California Edison Company, San Diego Gas & Electric Company, the California Public Utilities Commission and parties on the official service lists in recent TO Tariff rate cases, Docket Nos. ER01-1639-000, ER03-409-000 and ER04-109-000.

Comment Date: January 14, 2004.

10. Southern California Edison Company

[Docket No. ER04-338-000]

Take notice that on December 24, 2003, Southern California Edison Company (SCE) tendered for filing revised rate sheets (Revised Sheets) to the Agreement for Interconnection Service between SCE and Harbor Cogeneration Company (Harbor), Service Agreement No. 2 under SCE's FERC Electric Tariff, Second Revised Volume No. 6. SCE also tendered for filing a Reliability Management System Agreement (RMS Agreement) between SCE and Harbor. In addition, SCE also tendered for filing a Notice of Cancellation of the Interconnection Facilities Agreement between SCE and Harbor. SCE requests an effective date of November 30, 2003, for the Revised Sheets, the RMS Agreement, and the Notice of Termination.

SCE states that copies of the filing were served upon the Public Utilities Commission of the State of California and Harbor.

Comment Date: January 14, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-44 Filed 01-13-04; 8:45 am]

BILLING CODE 6717-01-P